DEPARTMENT OF EDUCATION

National Assessment Governing Board

Announcement of a Closed Teleconference Meeting

AGENCY: National Assessment Governing Board, U.S. Department of Education.

ACTION: Announcement of a closed teleconference meeting.

SUMMARY: This notice sets forth the agenda for a July 19, 2019 closed teleconference meeting of the National Assessment Governing Board (hereafter referred to as Governing Board). This notice provides information to members of the public who may be interested in reviewing the closed meeting report of the meeting 10 working days following the meeting. Notice of this meeting is required under the Federal Advisory Committee Act (FACA).

DATES: July 19, 2019 from 2:00 p.m. to 3:30 p.m. Eastern Standard Time.

ADDRESSES: Teleconference meeting.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION:

Statutory Authority and Function: The Governing Board is established under the National Assessment of Educational Progress Authorization Act, Title III of Public Law 107-279. The Governing Board is established to formulate policy for NAEP administered by the National Center for Education Statistics (NCES). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

The funding cycle limitation require the Governing Board to amend the NAEP Assessment Schedule, adopted during the May 2019 quarterly board meeting. The Governing Board action on updating the NAEP Assessment Schedule, given information confirmed through the contract process, cannot occur until the expected contract award date.

The Governing Board recently received confirmation from the National Center for Education Statistics (NCES) that its decision for the NAEP Alliance Contracts, expected to be awarded by early July 2019, include unanticipated changes to actual and future expected costs for the NAEP Assessment Schedule, which is established by the Governing Board.

July 19, 2019 Full Board Teleconference Meeting

On Friday, July 19, 2019, the Governing Board will convene in closed session from 2:00 p.m. to 3:30 p.m. Eastern Time. During the closed session, the Governing Board will receive a briefing from Peggy Carr, Associate Commissioner, NCES, on the detailed program costs through the year 2030, and the contract award amounts for activities through FY 2025, contract options costs, and Independent Government Costs Estimates (IGCE) for future assessment years. The Governing Board must consider the IGCEs as it revises the NAEP Assessment Schedule through 2030 to account for anticipated costs and budget constraints. Therefore, during closed session, the Governing Board will need to deliberate on estimated future cost details of the NAEP Schedule of Assessments and will take action on revising the Schedule of Assessments based on the outcome of the Board's deliberations. Public disclosure of independent government cost estimates for future contract costs and internal NAEP budget decisions would significantly impede implementation of the NAEP assessment program if conducted in open session. Such matters are protected by exemption 9(B) of § 552b(c) of Title 5 of the United States Code.

The July 19, 2019 teleconference meeting will adjourn at 3:30 p.m.

Access to Records of the Meeting: Pursuant to FACA requirements, the public may also inspect the meeting materials at www.nagb.gov no later than August 2, 2019, by 10:00 a.m. EST.

Reasonable Accommodations: The NAGB website is accessible to individuals with disabilities. Written comments may be submitted electronically or in hard copy to the attention of the Executive Officer/Designated Federal Official (see contact information noted above). Information on the Governing Board and its work can be found at www.nagb.gov.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Lisa M. Stooksberry,
Deputy Executive Director, National Assessment Governing Board (NAGB), U.S. Department of Education.

[FR Doc. 2019-14405 Filed 7-5-19; 8:45 am]

BILLING CODE P